DEPARTMENT OF THE INTERIOR

Fish and Wildlife Service

[Docket No. FWS-HQ-ES-2019-0058; FF09E15000-FXES111609B0000-190]

John H. Chafee Coastal Barrier Resources System; Okaloosa and Walton Counties, FL; Beaufort and Charleston Counties, SC; Availability of Draft Revised Boundaries and Request for Comments

AGENCY: Fish and Wildlife Service, Interior.

ACTION: Notice of availability; request for comments.

SUMMARY: The Coastal Barrier Resources Reauthorization Act of 2006 requires the Secretary of the Interior to prepare digital versions of the John H. Chafee Coastal Barrier Resources System (CBRS) maps and make recommendations for the expansion of the CBRS. We, the U.S. Fish and Wildlife Service, have prepared draft revised boundaries for two existing CBRS units in Okaloosa and Walton Counties, Florida, and for four existing units and two proposed new units in Beaufort and Charleston Counties, South Carolina. This notice announces the availability of the proposed boundaries for public review and comment.

DATES:

Accessing documents: Requests for the stakeholder outreach toolkit described under Availability of Proposed Coastal Barrier Resources System Boundaries and Related Information, below, should be made by February 3, 2021 to encourage any local outreach to be conducted early in the comment period, leaving ample time for the public to review and submit comments. However, requests made after this date, within a reasonable time, will be fulfilled.

Submitting comments: To ensure consideration, we must receive your written comments by March 5, 2021.

ADDRESSES: You may submit written comments by one of the following methods:

• Electronically: Go to the Federal e-Rulemaking Portal: https://www.regulations.gov. Search for FWS-HQ-ES-2019-0058, which is the docket number for this notice.

• By hard copy: Submit by U.S. mail or hand-delivery to: Public Comments Processing, Attn: Docket No. FWS-HQ-ES-2019-0058, U.S. Fish and Wildlife Service, 5275 Leesburg Pike, MS: PRB/3W, Falls Church, VA 22041-3808.

We request that you send comments by only one of the methods described above. We will post all information received on https://www.regulations.gov. If you provide personal identifying information in your comment, you may request at the top of your document that we withhold this information from public review. However, we cannot guarantee that we will be able to do so.

FOR FURTHER INFORMATION CONTACT: Katie Niemi, Coastal Barriers Coordinator, via telephone at 703-358-2071, by email at CBRA@fws.gov, or via the Federal Relay Service at 800-877-8339 for TTY assistance.

SUPPLEMENTARY INFORMATION: The Coastal Barrier Resources Reauthorization Act of 2006 (CBRRA; section 4 of Pub. L. 109-226) requires the Secretary of the Interior (Secretary) to prepare digital versions of the John H. Chafee Coastal Barrier Resources System (CBRS) maps and make recommendations for the expansion of the CBRS. We, the U.S. Fish and Wildlife Service (Service), have prepared draft revised boundaries for two existing CBRS units in Okaloosa and Walton Counties, Florida, and for four existing units and two proposed new units in Beaufort and Charleston Counties, South Carolina. This notice announces the availability of the proposed boundaries for public review and comment.

Background on the Coastal Barrier Resources System

Coastal barrier ecosystems are inherently dynamic systems located at the interface of land and sea. Coastal barriers and their associated aquatic habitat (wetlands and open water) provide important habitat for fish and wildlife, and serve as the mainland's first line of defense against the impacts of severe storms. With the passage of the Coastal Barrier Resources Act (CBRA) in 1982 (16 U.S.C. 3501 et seq.), Congress recognized that certain actions and programs of the Federal Government have historically subsidized and encouraged development on storm-prone and highly dynamic coastal barriers, and the result has been the loss of natural resources; threats to human life, health, and property; and the expenditure of billions of tax dollars.

CBRA established the CBRS, which originally comprised 186 geographic units encompassing approximately 453,000 acres of relatively undeveloped lands and associated aquatic habitat along the Atlantic and Gulf of Mexico coasts. The CBRS was expanded by the Coastal Barrier Improvement Act of 1990 (CBIA; Pub. L. 101-591) to include additional areas along the Atlantic and Gulf of Mexico coasts, as well as areas along the coasts of the Great Lakes, the U.S. Virgin Islands, and Puerto Rico.

The CBRS now comprises a total of 870 geographic units, encompassing approximately 3.5 million acres of land and associated aquatic habitat. These areas are depicted on a series of maps and known as the John H. Chafee Coastal Barrier Resources System. Most new Federal expenditures and financial assistance that would have the effect of encouraging development are prohibited within the CBRS. Development can still occur within the CBRS, provided that private developers or other non-Federal parties bear the full cost.

The CBRS includes two types of units, System Units and Otherwise Protected Areas (OPAs). System Units contain areas that were relatively undeveloped and predominantly privately owned at the time of designation, though they may also contain areas held for conservation and/or recreation. Most new Federal expenditures and financial assistance, including Federal flood insurance, are prohibited within System Units. OPAs are predominantly comprised of conservation and/or recreation areas such as national wildlife refuges, State and national parks, and local and private conservation areas, though they may also contain private areas not held for conservation and/or recreation. OPAs are denoted with a “P” at the end of the unit number. The only Federal spending prohibition within OPAs is the prohibition related to Federal flood insurance.

The Secretary, through the Service, is responsible for administering CBRA, which includes maintaining the official maps of the CBRS, determining whether certain areas are located within the CBRS, consulting with Federal agencies that propose to spend funds within the CBRS, preparing updated maps of the CBRS, and making recommendations to Congress regarding changes to the CBRS. Aside from three minor exceptions, only Congress—through legislation—can modify the maps of the CBRS to add or remove land. These exceptions, which allow the Secretary to make limited modifications to the CBRS (16 U.S.C. 3503(c)-(e)), are for: (1) Changes that have occurred to the CBRS as a result of natural forces, (2) voluntary additions to the CBRS by property owners, and (3) additions of excess Federal property to the CBRS.

The Service receives numerous requests from property owners and other interested parties who seek to remove areas from the CBRS. When assessing potential removals from and additions to the CBRS, the Service considers a set of guiding principles and criteria which are further described under Types of Boundary Changes, below. The Service generally does not recommend removals from the CBRS, unless there is clear and compelling evidence that a mapping error was made. In cases where mapping errors are found, the Service recommends changes to the maps and works with Congress and other interested parties to create comprehensively revised maps using modern digital technology.

Coastal Barrier Resources System Remapping Methodology

The methodology described below is the general process through which the Service prepares comprehensively revised CBRS boundaries, including those produced through this technical correction for certain Florida and South Carolina units. This methodology is consistent with the methodology used for prior comprehensive remapping efforts, including the Service's Hurricane Sandy Remapping Project (affecting nine States in the northeast) that is described in a notice the Service published in the Federal Register on March 12, 2018 (83 FR 10739).

Data Mining and Research

The Service procures the best available data and information necessary to: (1) Determine whether the existing CBRS unit boundaries appropriately follow the features they were intended to follow on-the-ground; (2) determine the level of development that was on-the-ground when the areas were originally included within the CBRS (e.g., dates of construction and density of development); (3) identify qualifying additions; and (4) evaluate unit type classifications (i.e., System Unit or OPA).

We review all applicable historical background records of the CBRS units (maintained by the Service), reports to Congress, public laws, legislative history, testimony from Congressional hearings, Federal Register notices, current and historical CBRS maps, the 1982 and 1994 CBRS photographic atlases (a set of aerial photography maintained by the Service with the CBRS unit boundaries overlaid), materials submitted by interested parties and their representatives in Congress, and other data and information.

When necessary, we also obtain and assess both geospatial and non-geospatial data from a variety of Federal sources (e.g., Federal Emergency Management Agency, National Oceanic and Atmospheric Administration, U.S. Army Corps of Engineers, U.S. Department of Agriculture, Service's National Wetlands Inventory and refuge programs, and U.S. Geological Survey), as well as State, local, and nongovernmental sources. These data may include, but are not limited to, current and historical aerial imagery, natural resource and natural hazard data (e.g., wetlands data, shoreline change data, and flood hazard data), land ownership and development data (e.g., property parcel data and construction date information), and conservation and recreation area data (e.g., park and wildlife refuge parcel boundaries, conservation easement data, and parcel acquisition dates). Some of these data sets are available for download on the internet or through specific requests to the data steward, while others can only be reviewed online through mappers, websites, and/or databases.

Proposed CBRS boundaries prepared by the Service are based upon the best available information that the Service is able to obtain. In some cases, there are challenges associated with the data mining and research process. Data may be unavailable, unobtainable within a reasonable time frame, incomplete, outdated, and/or in conflict with other data of the same type from a different source. Construction dates and both present and historical land ownership information can be difficult to obtain and validate for certain areas (in particular, ownership information for undeveloped wetland areas). It is also difficult in some cases to determine structure type and use (e.g., residential, commercial, or other).

Initial Stakeholder Outreach

During the data mining and research phase of the technical correction review, the Service generally conducts outreach with certain landowners and/or managers of coastal barrier areas that are “otherwise protected” (as defined by the CBIA), meaning within the boundaries of an area established under Federal, State, or local law, or held by a qualified organization (defined under the Internal Revenue Code (26 U.S.C. 170(h)(3)), primarily for wildlife refuge, sanctuary, recreational purposes, or natural resource conservation purposes. Such outreach is generally not conducted with the landowners and/or managers of areas that do not meet the definition of “otherwise protected.” This includes areas zoned or regulated by State or local governments for the purpose of restricting the nature or density of development, but where such regulation does not necessarily reflect the intent of the property owners to protect the area for conservation and/or recreation in perpetuity (e.g., local zoning categories such as dune districts, inlet hazard areas, and setback zones and areas subject to conservation easements or leases that have limited restrictions).

Conservation/recreation area landowners and/or managers are contacted during the data mining and research phase in cases where the following information is necessary to prepare the proposed boundaries: (1) The location of conservation and/or recreation area boundaries (primarily in cases where the CBRS unit boundary was intended to be coincident with that boundary and there is conflicting information about the parcel boundary location), and/or (2) the acquisition date(s) of the conservation and/or recreation area. Additionally, conservation/recreation area landowners and/or managers are contacted when the Service requires additional information necessary to determine the appropriate CBRS unit type classification (i.e., System Unit or OPA) for a particular conservation and/or recreation area.

Given the large number of conservation and/or recreation area stakeholders within certain areas and complexities associated with mapping numerous small parcels, we generally limit our initial outreach to those stakeholders that own and/or manage conservation and/or recreation areas that are greater than approximately 10 acres in size within the existing and/or proposed System Units. See Types of Boundary Changes, below, for additional information about the mapping of conservation/recreation areas within the CBRS.

Additional outreach to these groups and a broader group of stakeholders is being conducted as part of the public review process; see Request for Comments, below, for further information.

Acreage Calculations

The Service calculates the acreage of the CBRS units to help assess the areal extent of the units and to quantify proposed changes. The total acreage of a CBRS unit is comprised of fastland (land above mean high tide) and associated aquatic habitat (wetlands and open water). For the purpose of calculating acreage for CBRS remapping projects, the wetland/fastland acreage breakdown of the units is derived from the Service's National Wetlands Inventory (NWI) data. A shoreline is delineated (as described below) to be used in conjunction with the boundaries of the unit to calculate acreage, and only areas landward of this shoreline are included in the calculation. The associated aquatic habitat acreage numbers include open water landward of the coastal barrier, but not nearshore or offshore waters seaward of the shoreline. The offshore acreage of the units is not calculated, because a fixed seaward boundary for the units is generally not drawn due to the highly dynamic nature of the littoral zone.

Although acreage for offshore areas is not calculated, the entire sand sharing system on the seaward side, including the beach and nearshore area, is included within the CBRS units. The sand sharing system of coastal barriers is normally defined by the 30-foot bathymetric contour. In the Great Lakes and in large coastal embayments (e.g., Chesapeake Bay, Delaware Bay, and Narragansett Bay), the sand sharing system is more limited in extent. In these cases, the sand sharing system is defined by the 20-foot bathymetric contour or a line approximately 1 mile seaward of the shoreline, whichever is nearer the coastal barrier.

Shoreline Calculations

The Service calculates the shoreline of the units to help assess the linear extent of the CBRS and to facilitate the calculation of the acreage of the units as described above. For the purposes of CBRS remapping projects, the Service digitizes a shoreline boundary to artificially close off the units along the seaward shoreline. This shoreline boundary generally follows the wet/dry sand line along the seaward side of the unit as interpreted from the base imagery. Additionally, the shoreline boundary spans any inlets and/or other dividing water bodies within each unit. In some cases, highly convoluted shorelines are generalized. Due to the complexities of shoreline delineations, acreage numbers (rather than shoreline miles) are the most reliable way to quantify proposed changes to the CBRS for individual units.

Types of Boundary Changes

The Service applies objective mapping protocols, statutory criteria, and a set of guiding principles for assessing modifications to the CBRS. In 1982 and 1985, the Department published guidance in the Federal Register (47 FR 35696 (August 16, 1982) and 50 FR 8698 (March 4, 1985)) for delineating CBRS unit boundaries. The Department's Undeveloped Coastal Barriers: Report to Congress (1982) and Report to Congress: Coastal Barrier Resources System (1988) and the Service's Final Report to Congress: John H. Chafee Coastal Barrier Resources System Digital Mapping Pilot Project (2016) also contain protocols, criteria, and guiding principles for CBRS mapping. The different types of changes proposed through CBRS remapping projects include modifications to reflect geomorphic change; alignment with geomorphic, development, and cultural features; additions to and removals from the CBRS; and modifications to CBRS boundaries in channels. Additionally, CBRS unit type classifications (and reclassifications) are determined according to a standard protocol described below.

Modifications To Reflect Geomorphic Change

CBRA requires that the Service review the maps of the CBRS at least once every 5 years and make modifications to the boundaries of the units to account for changes caused by natural forces such as accretion and erosion (16 U.S.C. 3503(c)). This type of change can be made by the Service administratively; however, it is also incorporated into comprehensive remapping efforts for efficiency and cost-saving purposes. The boundaries of System Units and OPAs are modified where appropriate to account for natural changes that have occurred since the maps were last updated.

Alignment With Geomorphic Features

CBRS boundaries are often intended to follow geomorphic features such as a shoreline or the interface between wetlands and fastlands. This applies mostly to System Units, though there are many cases where OPA boundaries follow geomorphic features. The boundaries of System Units and OPAs are modified where appropriate to align with underlying geomorphic features.

Alignment With Development Features

CBRS boundaries are often intended to follow development features, such as the edge of a road, a bridge, or the “break-in-development” that existed on-the-ground when the area was included within the CBRS. The break-in-development is where development ended, immediately adjacent to the last structure in a cluster or row of structures, or at the property parcel boundary of the last structure. This applies mostly to System Units, though there are cases where OPA boundaries follow development features. The boundaries of System Units and OPAs are modified where appropriate to align with development features.

Alignment With Cultural Features

CBRS boundaries are often intended to follow cultural features such as roads and political boundaries (e.g., State, county, and town boundaries) or conservation/recreation area boundaries. Both System Units and OPAs follow cultural features; however, this applies especially to OPAs, which often coincide with the boundaries of the underlying conservation and/or recreation areas (although there are exceptions). The boundaries of System Units and OPAs are modified where appropriate to align with cultural features.

Additions to the Coastal Barrier Resources System

In carrying out CBRS remapping projects, the Service often finds areas of undeveloped fastland and associated aquatic habitat that are not currently within the CBRS but are appropriate for inclusion (either as additions to existing units or as entirely new units). When assessing whether an area may be appropriate for addition to the CBRS, the Service considers the following guiding principles:

(1) Whether the area may reasonably be considered to be a coastal barrier feature, or related to a coastal barrier ecosystem (this generally includes areas that are inherently vulnerable to coastal hazards such as flooding, storm surge, wind, erosion, and sea level rise) and

(2) Whether inclusion of the area within the CBRS is rationally related to the purposes of CBRA (i.e., to minimize the loss of human life, wasteful expenditure of Federal revenues, and damage to fish, wildlife, and other natural resources).

When assessing potential additions to the CBRS, the Service also considers the following criteria:

(1) The level of development on-the-ground (i.e., whether the number of structures or complement of infrastructure on-the-ground exceeds the threshold for the area to be considered undeveloped) (16 U.S.C. 3503(g)(1)) and/or

(2) In the case of certain additions to existing units, the location of geomorphic, cultural, and development features on-the-ground at the time the adjacent area was included within the CBRS (i.e., whether the CBRS boundary lines on the maps precisely follow the underlying features they were intended to follow on-the-ground).

The boundaries of System Units and OPAs are modified where appropriate to add undeveloped fastland and associated aquatic habitat to the CBRS (either as additions to existing units or as entirely new units). Such additions to the CBRS are consistent with section 4(c)(3) of the 2006 Coastal Barrier Resources Reauthorization Act, which directs the Secretary to make recommendations for expansion of the CBRS. The unit type classification (i.e., System Unit versus OPA) is determined according to the protocol described below, under Coastal Barrier Resources System Unit Type Classification.

Additionally, the Service accommodates requests from landowners for voluntary additions to the CBRS or reclassifications of conservation/recreation areas from OPA to System Unit status. Voluntary additions to the CBRS can be made by the Service administratively (16 U.S.C. 3503(d)); however, they are also incorporated into ongoing CBRS mapping projects like this one for efficiency and cost-saving purposes.

Removals From the Coastal Barrier Resources System

In carrying out CBRS remapping projects, the Service also finds areas that were inappropriately included within the CBRS and constitute technical mapping errors. When assessing whether an area may be appropriate for removal from the CBRS, the Service considers the following guiding principles:

(1) Whether the area may reasonably be considered to be a coastal barrier feature, or related to a coastal barrier ecosystem (this generally includes areas that are inherently vulnerable to coastal hazards such as flooding, storm surge, wind, erosion, and sea level rise) and

(2) Whether inclusion of the area within the CBRS is rationally related to the purposes of CBRA (i.e., to minimize the loss of human life, wasteful expenditure of Federal revenues, and damage to fish, wildlife, and other natural resources).

The Service considers a technical mapping error to be a mistake in the delineation of the CBRS boundaries that was made as a result of incorrect, outdated, or incomplete information (often stemming from inaccuracies on the original base maps). When assessing whether an area may be appropriate for removal, the Service also considers the following criteria:

(1) The level of development on-the-ground at the time the area was included within the CBRS (i.e., the number of structures or complement of infrastructure on-the-ground exceeded the threshold for the area to be considered undeveloped) (16 U.S.C. 3503(g)(1)) and/or

(2) The location of geomorphic, cultural, and development features on-the-ground at the time the area was included within the CBRS (i.e., the CBRS boundary lines on the maps do not precisely follow the underlying features they were intended to follow on-the-ground).

The boundaries of System Units and OPAs are modified where appropriate to remove areas that were inappropriately included within the CBRS and constitute technical mapping errors.

Modifications to Coastal Barrier Resources System Boundaries in Channels

In carrying out CBRS remapping projects, the Service finds that the CBRS unit boundaries following channels in some cases include the entire channel and in other cases include none of the channel within the unit. The boundaries of System Units and OPAs are modified where appropriate to include the entire extent of the channel within the unit. In cases where a System Unit and an OPA share a coincident boundary that follows a channel located between the two units, the entire channel is generally included within the System Unit. In cases where two System Units or two OPAs fall within a channel, the coincident boundary is generally placed at the center of the channel. A buffer (of about 20 feet) is generally applied along developed shorelines (i.e., where structures and/or infrastructure such as seawalls, bulkheads, and roads are very close to and run parallel to or are coincident with the shoreline) to ensure that existing development and infrastructure located on the shoreline are not inadvertently included within the CBRS.

Coastal Barrier Resources System Unit Type Classification

In carrying out CBRS remapping projects, the Service considers the qualifying coastal barrier feature and delineates the unit boundaries in accordance with the protocols, criteria, and guiding principles identified above, regardless of whether the area is (or was previously) owned or managed for conservation and/or recreation. In other words, the boundaries of both System Units and OPAs are generally drawn using the same protocols, criteria, and guiding principles. The Service then determines the unit type classification (for proposed additions) and reclassification (for existing units) in accordance with the protocols below.

The unit type classification (i.e., System Unit versus OPA) is based on whether or not the unit was predominantly held for conservation and/or recreation at the time of designation, and is modified where appropriate and practicable. Such unit type modifications for areas that are currently within the CBRS are referred to as “reclassifications.” The reclassified areas are either added to an existing adjacent unit of the same type or assigned a new unit number. The following considerations are applied for unit type classification and reclassification.

Areas Not Held for Conservation/Recreation Within Otherwise Protected Areas

Areas that are not held for conservation/recreation may be included within OPAs if they are: (1) Interspersed with and/or adjacent to a larger conservation/recreation area, and (2) located in coastal barrier areas that were undeveloped according to CBRA's statutory development criteria (16 U.S.C. 3503(g)(1)) at the time they were included within the CBRS (or are currently undeveloped in the case of proposed additions). Additionally, privately held inholdings (developed or undeveloped private tracts that are contained within the exterior boundaries of the conservation and/or recreation area) may also be included within OPAs.

Conservation/Recreation Areas Within System Units

Areas Held for Conservation/Recreation Prior to CBRS Designation

Areas that are held for conservation/recreation may be included within System Units if they are: (1) Interspersed with and/or adjacent to a larger area that is not held for conservation/recreation and (2) undeveloped according to CBRA's statutory development criteria (16 U.S.C. 3503(g)(1)) at the time they were included within the CBRS (or are currently undeveloped in the case of proposed additions).

For conservation/recreation areas greater than 10 acres, the Service coordinates with the landowners (or managers) to seek their concurrence on inclusion of their area within the System Unit. If the owners do not concur with System Unit status, the Service classifies such areas as OPAs to the extent practicable. However, minor conservation/recreation areas (fastlands and wetlands smaller than 10 acres) and certain areas of open water would be impractical from a mapping perspective to delineate separately as OPAs and therefore may be included within System Units. Outreach is generally not conducted for these minor areas during the initial stakeholder outreach phase of the project (described above under Coastal Barrier Resources System Remapping Methodology). Descriptions of such “minor” areas within System Units are included in the set of unit summaries that describe the Service's proposed changes to the CBRS. See Availability of Proposed Coastal Barrier Resources System Boundaries and Related Information, below, for information on where to access the unit summaries.

The Service's records indicate that some conservation/recreation areas were intentionally added to the CBRS as System Units in the past. The Service generally does not seek concurrence from conservation/recreation area owners (regardless of size) when there is evidence of such prior intent, including letters from the stakeholder in the Service's records indicating that the organization supported inclusion of the property within the System Unit in the past, or records of specific changes to the Department's recommended maps made by the Congressional committees that reviewed them prior to their enactment.

Areas Held for Conservation/Recreation After Area Designated as CBRS

If an area is dedicated to conservation and/or recreation after its initial inclusion within a System Unit, it is generally not reclassified to an OPA.

Proposed Modifications to the CBRS

The Service has prepared draft revised boundaries that propose modifications to the CBRS in Florida and South Carolina in accordance with the methodology described above. The proposed revisions would remove areas that were inappropriately included within the CBRS in the past and add areas that meet CBRA's criteria for inclusion within the CBRS (16 U.S.C. 3503(g)(1)). The proposed revisions would also reclassify certain areas from System Unit to OPA, and vice versa.

A summary of metrics associated with the proposed changes by county/State is provided below. More detailed information regarding the specific proposed changes to each unit is available in a set of unit summaries. See Availability of Proposed Coastal Barrier Resources System Boundaries and Related Information, below, for information on where to access the unit summaries.

Okaloosa and Walton Counties, Florida

The Service has prepared comprehensively revised proposed boundaries for Moreno Point Unit P32/P32P in Okaloosa and Walton Counties, Florida. The proposed boundaries for the Florida units would remove 17 acres from the CBRS (14 acres of fastland and 3 acres of associated aquatic habitat) and add 57 acres to the CBRS (7 acres of fastland and 50 acres of associated aquatic habitat). The proposed boundaries would remove 31 structures from the CBRS and add no structures to the CBRS.

Beaufort County and Charleston Counties, South Carolina

The Service has prepared comprehensively revised proposed boundaries for Morris Island Complex M06 in Charleston County, South Carolina, and for Harbor Island Unit M11, St. Phillips Unit M12, and Hunting Island Unit SC-09P in Beaufort County, South Carolina. The proposed boundaries include two proposed new OPAs, Morris Island Complex M06P and St. Phillips Unit M12P, which are within the vicinity of the existing units in Beaufort and Charleston Counties. These proposed new units are comprised entirely of areas that are not currently contained within the CBRS.

The proposed boundaries for the South Carolina units would remove 13 acres from the CBRS (all fastland) and add 9,956 acres to the CBRS (593 acres of fastland and 9,363 acres of associated aquatic habitat). The proposed boundaries would remove nine structures from the CBRS and add one structure to the CBRS.

Proposed Additions to the Coastal Barrier Resources System

The draft revised boundaries for the Florida and South Carolina units would make additions to the CBRS (including the creation of two new units) that are consistent with a directive in section 4 of the 2006 CBRRA concerning recommendations for expansion of the CBRS. The proposed boundaries are based upon the best data available to the Service at the time the areas were reviewed. Our assessment indicated that any new areas proposed for addition to the CBRS were relatively undeveloped at the time the proposed boundaries were created.

CBRA (16 U.S.C. 3503(g)) requires that we consider the following criteria when assessing the development status of a potential addition to the CBRS: (1) Whether the density of development is less than one structure per 5 acres of land above mean high tide (which generally suggests eligibility for inclusion within the CBRS); and (2) whether there is existing infrastructure consisting of a road, with a reinforced road bed, to each lot or building site in the area; a wastewater disposal system sufficient to serve each lot or building site in the area; electric service for each lot or building site in the area; and a fresh water supply for each lot or building site in the area (which generally suggests ineligibility for inclusion within the CBRS).

If, upon review of the proposed boundaries, interested parties find that any areas proposed for addition to the CBRS are currently developed (according to the criteria codified at 16 U.S.C. 3503(g)), they may submit supporting documentation of such development to the Service during this public comment period. For any areas proposed for addition to the CBRS, we will consider the density of development and level of infrastructure on-the-ground as of the close of the comment period (see DATES, above).

Request for Comments

Section 4 of the 2006 CBRRA requires the Secretary to provide an opportunity for the submission of public comments. We invite the public to review and comment on the proposed CBRS boundaries for CBRS Units P32/P32P, M06/M06P, M11, M12/M12P, and SC-09P. The Service is specifically notifying the following stakeholders concerning the availability of the proposed boundaries: The Chair and Ranking Member of the House of Representatives Committee on Natural Resources; the Chair and Ranking Member of the Senate Committee on Environment and Public Works; the members of the Senate and House of Representatives for the affected areas; the Governors of Florida and South Carolina; organizations that own (or manage) land held for conservation and/or recreation within the existing and proposed units (where such ownership information and mailing addresses were publicly available); other appropriate Federal, State, and local officials; and appropriate nongovernmental organizations.

The Service is generally not notifying individual private property owners concerning the availability of the proposed boundaries (except for individuals who have specifically contacted us in the past concerning a technical correction request). However, the Service encourages local officials to distribute the “Dear Interested Party” notification letter included in the stakeholder outreach toolkit, described below under Availability of Proposed Coastal Barrier Resources System Boundaries and Related Information, to affected property owners in their communities.

Interested parties may submit written comments and accompanying data as described in ADDRESSES, above. Comments regarding specific CBRS unit(s) should reference the appropriate unit number(s) and unit name(s). We must receive comments on or before the date listed above in DATES.

Following the close of the comment period, we will review all comments we receive on the proposed boundaries and make adjustments to the boundaries, as appropriate, based on information received through public comments, updated aerial imagery, CBRA criteria, and objective mapping protocols. We will then prepare final recommended maps to be submitted to Congress. The final recommended maps will become effective only if they are adopted by Congress through legislation.

Availability of Proposed Coastal Barrier Resources System Boundaries and Related Information

The CBRS Projects Mapper (an online interface for the public to view the proposed boundaries and obtain information about the proposed changes) and unit summaries (containing historical changes and proposed changes to the individual units) can be accessed from the Service's website at https://www.fws.gov/cbra. A shapefile of the proposed CBRS boundaries, which can be used with GIS software, is also available for download. The shapefile is best viewed using the base imagery to which the boundaries were drawn; the base imagery sources and dates are included in the metadata for the shapefile. The Service is not responsible for any misuse or misinterpretation of the shapefile. You may submit a public comment using one of the methods listed above in ADDRESSES.

Additionally, a stakeholder outreach toolkit (comprising unit summaries, a shapefile of the draft revised boundaries, and a “Dear Interested Party” notification letter) will be made available to local officials upon request. Local officials may use this toolkit to increase awareness of the project within their communities. Local officials may contact the individual identified in FOR FURTHER INFORMATION CONTACT, above, for more information regarding the toolkit. We recommend that any local community officials who want to use the outreach toolkit request it as soon as possible to allow outreach activities to occur in time for the public to submit comments before the comment period closes (see DATES).

Interested parties who are unable to access the proposed boundaries or other information online may contact the individual identified in FOR FURTHER INFORMATION CONTACT, above, and reasonable accommodations will be made.

Gary Frazer,
Assistant Director for Ecological Services, U.S. Fish and Wildlife Service.

[FR Doc. 2020-29043 Filed 12-31-20; 8:45 am]

BILLING CODE 4333-15-P